DEPARTMENT OF THE INTERIOR

National Park Service

Gettysburg National Mililtary Park Advisory Commission

AGENCY: National Park Service.

ACTION: Notice of April 24, 2008 Meeting.

SUMMARY: This notice sets forth the date of the April 24, 2008 meeting of the Gettysburg National Military Park Advisory Commission.

DATES: The public meeting will be held on April 24, 2008 from 7 to 9 p.m.

Location: The meeting will be held at the new Visitor Center/Museum, 1195 Baltimore Pike, Gettysburg, Pennsylvania 17325.

Agenda: The April 24, 2008 meeting will consist of the following Nomination/Election of Chair and Vice-Chair for the 2008 Year; there will be Sub-Committee Reports from the Historical, Executive, and Interpretive Committees; Federal Consistency Reports Within the Gettysburg Battlefield Historic District; Operational Updates on Park Activities which include an update on the new Visitor Center/Museum Complex, also on the Wills House project, Landscape Rehabilitation, and the Shuttle System; and the Citizen's Open Forum where the public makes comments and asks any questions on any park activity.

FOR FURTHER INFORMATION CONTACT: John A. Latschar, Superintendent, Gettysburg National Military Park, 97 Taneytown Road, Gettysburg, Pennsylvania 17325.

SUPPLEMENTARY INFORMATION: The meetings will be open to the public. Any member of the public may file with the Commission a written statement concerning agenda items. The statement should be addressed to the Gettysburg National Military Park Advisory Commission, 97 Taneytown Road, Gettysburg, Pennsylvania 17325.

Dated: February 14, 2008.
John A. Latschar,
Superintendent, Gettysburg NMP/Eisenhower NHS.

[FR Doc. E8-3811 Filed 2-27-08; 8:45 am]

BILLING CODE 4310-JT-P